DEPARTMENT OF LABOR

Employment and Training Administration

[TA-W-65,126]

Regal Beliot Electric Motors, Incorporated, Lebanon, MO; Notice of Termination of Investigation

Pursuant to Section 221 of the Trade Act of 1974, as amended, an investigation was initiated on February 4, 2009 in response to a petition filed on behalf of workers of Regal Beliot Electric Motors, Incorporated, Lebanon, Missouri.

The petitioner has requested that the petition be withdrawn. Therefore, the investigation under this petition has been terminated.

Signed at Washington, DC, this 2nd day of April, 2009.
Linda G. Poole,
Certifying Officer, Division of Trade Adjustment Assistance.

[FR Doc. E9-10370 Filed 5-5-09; 8:45 am]

BILLING CODE 4510-FN-P